DEPARTMENT OF LABOR

Occupational Safety and Health Administration

29 CFR Part 1910

[Docket No. OSHA-2013-0020]

RIN No. 1218-AC82

Process Safety Management and Prevention of Major Chemical Accidents; Extension of Comment Period

AGENCY: Occupational Safety and Health Administration (OSHA), Labor.

ACTION: Request for information; extension of comment period.

SUMMARY: The Occupational Safety and Health Administration (OSHA) is extending the deadline for submitting comments on the Request for Information on Process Safety Management and Prevention of Major Chemical Accidents.

DATES: The comment due date for the proposed rule published in the Federal Register on December 9, 2013 (78 FR 73756) is extended. Comments must be submitted (postmarked, sent, or received) by March 31, 2014.

ADDRESSES: Submit comments and additional material using any of the following methods:

Electronically: Submit comments along with attachments electronically at http://www.regulations.gov, which is the Federal e-Rulemaking Portal. Click on the “COMMENT NOW!” box next to the title “Process Safety Management and Prevention of Major Chemical Accidents” and follow the instructions on-line for making electronic submissions.

Fax: Commenters may fax submissions, including attachments, that are not longer than 10 pages to the OSHA Docket Office at (202) 693-1648.

Mail, hand delivery, express mail, messenger, or courier service: Submit comments to the OSHA Docket Office, U.S. Department of Labor, Room N-2625, 200 Constitution Avenue NW., Washington, DC 20210; telephone: (202) 693-2350 (OSHA's TTY number is (877) 889-5627). The Docket Office accepts deliveries (hand, express mail, messenger, or courier service) during normal business hours, 8:15 a.m. to 4:45 p.m., e.t.

Instructions: All submissions must include the Agency name and the docket number for this rulemaking (Docket No. OSHA-2013-0020). OSHA places all comments, including any personal information provided, in the public docket without change and this information will be available online at http://www.regulations.gov. Therefore, OSHA cautions commenters about submitting personal information such as Social Security numbers and birthdates. Security-related procedures may significantly delay receipt of submissions sent by regular mail. Contact the Docket Office for information about security-related procedures.

Docket: To read or download comments submitted in response to this Federal Register notice, go to Docket No. OSHA-2013-0020 at http://www.regulations.gov or to the OSHA Docket Office at the address above. All comments and submissions are listed in the http://www.regulations.gov index; however, some information (e.g., copyrighted material) is not publicly available to read or download through that Web site. All comments and submissions are available for inspection and, when permissible, copying at the OSHA Docket Office.

FOR FURTHER INFORMATION CONTACT: General information and press inquiries: Contact Frank Meilinger, Director, Office of Communications, Room N-3647, OSHA, U.S. Department of Labor, 200 Constitution Avenue NW., Washington, DC 20210; telephone: (202) 693-1999; email: meilinger.francis2@dol.gov.

Technical inquiries: Contact Lisa Long, Director, Office of Engineering Safety, Directorate of Standards and Guidance, Room N-3609, OSHA, U.S. Department of Labor, 200 Constitution Avenue NW., Washington, DC 20210; telephone: (202) 693-2222 or email: long.lisa@dol.gov.

Copies of this Federal Register notice: Electronic copies of this Federal Register notice are available at http://regulations.gov. Copies also are available from the OSHA Office of Publications, Room N-3101, U.S. Department of Labor, 200 Constitution Avenue NW., Washington, DC 20210; telephone: (202) 693-1888. This notice, as well as news releases and other relevant information, also are available at OSHA's Web site at http://www.osha.gov.

SUPPLEMENTARY INFORMATION:

I. Background

OSHA published a request for information (RFI) on December 09, 2013, on Process Safety Management and Prevention of Major Chemical Accidents (78 FR 73756) in response to Section 6(e) of Executive Order 13650: Improving Chemical Facility Safety and Security. The RFI notice requested comments by March 10, 2014. Section 6(a) of the Executive Order requests public input on options for policy, regulation, and standards modernization. The comment period for Section 6(a) runs until March 31, 2014. OSHA received comments from several stakeholders who are preparing responses to the Section 6(a) docket, as well as comments in response to the RFI. These stakeholders noted that much of the subject matter in Section 6(a) is similar to the subject matter addressed by the RFI. Accordingly, the stakeholders requested that the deadline for submitting comments to the RFI correspond to the deadline for the Section 6(a) comment period, which is March 31, 2014, thereby allowing them to prepare complete and accurate comments for both records. Therefore, to allow commenters adequate time to prepare complete and accurate comments to the RFI, OSHA is, with this notice, extending the deadline for submitting comments in response to the RFI to March 31, 2014.¹

¹ Information on the executive order is available at: http://www.osha.gov/chemicalexecutiveorder/index.html.

II. Authority and Signature

David Michaels, Ph.D., MPH, Assistant Secretary of Labor for Occupational Safety and Health, U.S. Department of Labor, 200 Constitution Avenue NW., Washington, DC 20210, authorized the preparation of this notice pursuant to 29 U.S.C. 653, 655, 657, 40 U.S.C. 333, 33 U.S.C. 941, Secretary of Labor's Order No. 1-2012 (77 FR 3912, Jan. 25, 2012), and 29 CFR part 1911.

Signed at Washington, DC, on March 4, 2014.
David Michaels,
Assistant Secretary of Labor for Occupational Safety and Health.

[FR Doc. 2014-04983 Filed 3-6-14; 8:45 am]

BILLING CODE 4510-26-P